DEPARTMENT OF HOUSING AND URBAN DEVELOPMENT

[Docket No. FR-4730-N-24]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AF: Ms. Barbara Jenkins, Air Force Real Estate Agency (Area-MI), Bolling Air Force Base, 112 Luke Avenue suite 104, Building 5683, Washington, DC 20332-8020; (202) 767-4148; COE: Ms. Shirley Middleswarth, Army Corps of Engineers, Management & Disposal Division, 441 G Street, Washington, DC 20314-1000; (202) 761-7425; Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE., suite 1000, Washington, DC 20374-5065; (202) 685-9200; (These are not toll-free numbers).

Dated: June 6, 2002.
John D. Garrity,
Director, Office of Special Needs Assistance Programs.

TITLE V, FEDERAL SURPLUS PROPERTY PROGRAM FEDERAL REGISTER REPORT FOR 6/14/02

Suitable/Available Properties

Buildings (by State)

Mississippi

Quonset Bldg.

Greenville Casting Plant

Greenville Co: Washington MS 38701-

Landholding Agency: COE

Property Number: 31200220010

Status: Unutilized

Comment: 26,250 sq. ft., presence of asbestos/lead paint, most recent use—storage/office, off-site use only

Storage Bldg. #1

Greenville Casting Plant

Greenville Co: Washington MS 38701-

Landholding Agency: COE

Property Number: 31200220011

Status: Unutilized

Comment: 32,502 sq. ft., presence of asbestos/lead paint, most recent use—storage/office, off-site use only

Storage Bldg. #2

Greenville Casting Plant

Greenville Co: Washington MS 38701-

Landholding Agency: COE

Property Number: 31200220012

Status: Unutilized

Comment: 16,170 sq. ft., presence of asbestos/lead paint, most recent use—storage, off-site use only

Yellow Office Bldg.

Greenville Casting Plant

Greenville Co: Washington MS 38701-

Landholding Agency: COE

Property Number: 31200220013

Status: Unutilized

Comment: 1820 sq. ft., presence of asbestos/lead paint, most recent use—office, off-site use only

Storage Bldg.

Greenville Casting Plant

Greenville Co: Washington MS 38701-

Landholding Agency: COE

Property Number: 31200220014

Status: Unutilized

Comment: 1820 sq. ft., presence of asbestos/lead paint, most recent use—office, off-site use only

Container Bldg.

Greenville Casting Plant

Greenville Co: Washington MS 38701-

Landholding Agency: COE

Property Number: 31200220015

Status: Unutilized

Comment: 270 sq. ft., presence lead paint, most recent use—storage, off-site use only

Bldgs. 90A/B, 91A/B, 92A/B

Jefferson Barracks Housing

St. Louis Co: MO 63125-

Landholding Agency: Air Force

Property Number: 18200220002

Status: Excess

Comment: 6450 sq.ft., needs repair, includes 2 acres

Pennsylvania

House/Storage

Cowanesque Lake Project

Bliss Road

Lawrenceville Co: Tioga PA 16929-

Landholding Agency: GSA

Property Number: 54200220011

Status: Excess

Comment: 1653/2640 sq. ft., no public water or sewer, needs rehab

GSA Number: 4-D-PA-791

Tennessee

Federal Bldg.

118 East Locust Street

Lafayette Co: Macon TN 37083-

Landholding Agency: GSA

Property Number: 54200220010

Status: Excess

Comment: 12,605 sq.ft., most recent use—office, protion occupied by U.S. Postal Service

GSA Number: 4-G-TN-656

Virginia

Bldg. 106(G)

Naval Station

Norfolk Co: VA

Landholding Agency: Navy

Property Number: 77200220046

Status: Excess

Comment: 2767 sq. ft. garage, most recent use—storage, off-site use only

Bldg. CEP-184

Naval Station

Norfolk Co: VA

Landholding Agency: Navy

Property Number: 77200220047

Status: Excess

Comment: 200 sq. ft., most recent use—gate/sentry house, off-site use only

Land (by State)

Hawaii

Parcels 9, 2, 4

Loran Station Upolu Point

Hawi Co: Hawaii HI

Location: Resubmitted to Federal Register for publication

Landholding Agency: GSA

Property Number: 54200220002

Status: Surplus

Comment: parcel 9 = 6.242 acres/encumbered by utility and road access easements, parcel 2 = 1.007 acres; parcel 4 =5.239 acres

GSA Number: 9-U-HI-0572

Land (by State)

South Dakota

S. Nike Ed. Annex Land

Ellsworth AFB

Pennington Co: SD 57706-

Landholding Agency: Air Force

Property Number: 18200220010

Status: Unutilized

Comment: 7 acres w/five foundations from demolished bldgs. remain on site; with a road and a parking lot

Suitable/Unavailable Properties

Buildings (by State)

Hawaii

Bldg. 5

Naval Region

Barbers Point Co: Honolulu HI 96707-

Landholding Agency: Navy

Property Number: 77200220039

Status: Underutilized

Comment: 3606 sq. ft. needs major repair, possible lead paint, presence of asbestos

New York

Bldg. 1225

Verona Text Annex

Verona Co: Oneida NY 13478-

Landholding Agency: Air Force

Property Number: 18200220014

Status: Unutilized

Comment: 3865 sq. ft. needs repairs, presence of asbestos/lead paint, most recent use—research lab.

Bldg. 1226

Verona Text Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Text Annex

Verona Co: Oneida NY 13478-

Landholding Agency: Air Force

Property Number: 18200220017

Status: Unutilized

Comment: 3865 sq. ft., presence of asbestos/lead paint/volatile organic compounds, access requirements, most recent use—research lab

Bldg. 1233

Verona Text Annex

Verona Co: Oneida NY 13478-

Landholding Agency: Air Force

Property Number: 18200220018

Status: Unutilized

Comment: 1152 sq. ft., needs repair, presence of asbestos/lead paint/volatile organic compounds, access requirements, most recent use—power station

Bldg. 1235, 1239

Verona Text Annex

Verona Co: Oneida NY 13478-

Landholding Agency: Air Force

Property Number: 18200220019

Status: Unutilized

Comment: 144/825 sq. ft., need repairs, presence of lead paint, most recent use—electric switch station

Bldg. 1241

Verona Text Annex

Verona Co: Oneida NY 13478-

Landholding Agency: Air Force

Property Number: 18200220020

Status: Unutilized

Comment: 159 sq. ft., presence of lead paint, most recent use—sewage pump station

Bldg. 1243

Verona Text Annex

Verona Co: Oneida NY 13478-

Landholding Agency: Air Force

Property Number: 18200220021

Status: Unutilized

Comment: 25 sq. ft., most recent use—waste treatment

Bldg. 1245

Verona Text Annex

Verona Co: Oneida NY 13478-

Landholding Agency: Air Force

Property Number: 18200220022

Status: Unutilized

Comment: 3835 sq. ft., needs repair, presence of asbestos/lead paint, most recent use—research lab

Bldg. 1247

Verona Text Annex

Verona Co: Oneida NY 13478-

Landholding Agency: Air Force

Property Number: 18200220023

Status: Unutilized

Comment: 576 sq. ft., needs repair, presence of asbestos/lead paint, most recent use—power station

Bldg. 1250 + land

Verona Text Annex

Verona Co: Oneida NY 13478-

Landholding Agency: Air Force

Property Number: 18200220024

Status: Unutilized

Comment: 11,766 sq. ft., offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirements, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft., repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Unsuitable Properties

Buildings (by State)

Alaska

Bldg. 15532

Elmendorf AFB

Elmendorf AFB Co: AK 99506-

Landholding Agency: Air Force

Property Number: 18200220001

Status: Unutilized

Reasons: Within airport runway clear zone; Secured Area

Arkansas

Helena Casting Plant

Helena Co: Phillips AR 72342-

Landholding Agency: COE

Property Number: 31200220001

Status: Unutilized

Reason: Extensive deterioration

California

Bldg. 41308

Marine Corps Base

Camp Pendleton Co: CA 92055-

Property Number: 77200220031

Status: Excess

Reason: Extensive deterioration

Eniwetok Carports

Marine Corps Logistics Base

Barstow Co: San Bernardino CA 92311-

Landholding Agency: Navy

Property Number: 77200220032

Status: Unutilized

Reason: Extensive deterioration

Eniwetok Public Quarters

Marine Corps Logistics Base

Barstow Co: San Bernardino CA 92311-

Landholding Agency: Navy

Property Number: 77200220033

Status: Unutilized

Reason: Extensive deterioration

Bldg. 229

Naval Weapons Station

Seal Beach

Fallbrook Co: CA 92028-3187

Landholding Agency: Navy

Property Number: 77200220048

Status: Unutilized

Reason: Extensive deterioration

Bldg. 331

Naval Weapons Station

Seal Beach

Fallbrook Co: CA 92028-3187

Landholding Agency: Navy

Property Number: 77200220049

Status: Unutilized

Reason: Extensive deterioration

Bldg. 434

Naval Weapons Station

Seal Beach

Fallbrook Co: CA 92028-3187

Landholding Agency: Navy

Property Number: 77200220050

Status: Unutilized

Reason: Extensive deterioration

Bldg. 437

Naval Weapons Station

Seal Beach

Fallbrook Co: CA 92028-3187

Landholding Agency: Navy

Property Number: 77200220051

Status: Unutilized

Reason: Extensive deterioration

Bldg. 440

Naval Weapons Station

Seal Beach

Fallbrook Co: CA 92028-3187

Landholding Agency: Navy

Property Number: 77200220052

Status: Unutilized

Reason: Extensive deterioration

Bldg. 906

Naval Weapons Station

Seal Beach

Fallbrook Co: CA 92028-3187

Landholding Agency: Navy

Property Number: 77200220053

Status: Unutilized

Reason: Extensive deterioration

Iowa

Treatment Plant

South Fork Park

Mystic Co: Appanoose IA 52574-

Landholding Agency: COE

Property Number: 31200220002

Status: Excess

Reason: Extensive deterioration

Kansas

Bldg. #1

Kanopolis Project

Marquette Co: Ellsworth KS 67456-

Landholding Agency: COE

Property Number: 31200220003

Status: Excess

Reason: Extensive deterioration

Bldg. #2

Kanopolis Project

Marquette Co: Ellsworth KS 67456-

Landholding Agency: COE

Property Number: 31200220004

Status: Excess

Reason: Extensive deterioration

Bldg. #4

Kanopolis Project

Marquette Co: Ellsworth KS 67456-

Landholding Agency: COE

Property Number: 31200220005

Status: Excess

Reason: Extensive deterioration

Comfort Station

Clinton Lake Project

Lawrence Co: Douglas KS 66049-

Landholding Agency: COE

Property Number: 31200220006

Status: Excess

Reason: Extensive deterioration

Missouri

#07004, 60006, 60007

Crabtree Cove/Stockton Area

Stockton Co: MO 65785-

Landholding Agency: COE

Property Number: 31200220007

Status: Excess

Reason: Extensive deterioration

Montana

Bldg. 347

Malmstrom AFB

Malmstrom AFB Co: Cascade MT 59402-

Landholding Agency: Air Force

Property Number: 18200220011

Status: Unutilized

Reasons: Within 2000 ft. of flammable or explosive material; Secured Area

Bldg. 3063

Malmstrom AFB

Malmstrom AFB Co: Cascade MT 5940-

Landholding Agency: Air Force

Property Number: 18200220012

Status: Unutilized

Reasons: Within 2000 ft. of flammable or explosive material Secured Area

Bldg. 3064

Malmstrom AFB

Malmstrom AFB Co: Cascade MT 59402-

Landholding Agency: Air Force

Property Number: 18200220013

Status: Unutilized

Reasons: Within 2000 ft. of flammable or explosive material Secured Area

Nebraska

#30004

Harlan County Project

Republican Co: Harlan NE 68971-

Landholding Agency: COE

Property Number: 31200220008

Status: Unutilized

Reason: Extensive deterioration

#30005, 3006

Harlan County Project

Republican Co: Harlan NE 68971-

Landholding Agency: COE

Property Number: 31200220009

Status: Unutilized

Reason: Extensive deterioration

New Mexico

Bldg. 6721

Kirkland AFB

Albuquerque Co: Bernalillo NM 87185-

Landholding Agency: Energy

Property Number: 41200220042

Status: Unutilized

Reason: Extensive deterioration

New York

6 UG Missile Silos

Youngstown Text Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Tennessee

Bldg. 9723-21

Y-12 Natl Security Complex

Oak Ridge Co: Anderson TN 37831-

Landholding Agency: Energy

Property Number: 41200220043

Status: Unutilized

Reasons: Secured Area Extensive deterioration

Bldgs. 9205, 9208

Y-12 Natl Security Complex

Oak Ridge Co: Anderson TN 37831-

Landholding Agency: Energy

Property Number: 41200220059

Status: Unutilized

Reasons: Secured Area Extensive deterioration

Texas

Zone 5, Bldg. FS-18

Pantex Plant

Amarillo Co: Carson TX 79120-

Landholding Agency: Energy

Property Number: 41200220044

Status: Unutilized

Reasons: Within 2000 ft. of flammable or explosive material Secured Area

Zone 11, Bldg. 11-001

Pantex Plant

Amarillo Co: Carson TX 79120-

Landholding Agency: Energy

Property Number: 41200220045

Status: Unutilized

Reasons: Within 2000 ft. of flammable or explosive material; Secured Area

Zone 11, 3 Bldgs.

11-015, 11-015B, 11-046

Pantex Plant

Amarillo Co: Carson TX 79120-

Landholding Agency: Energy

Property Number: 41200220046

Status: Unutilized

Reasons: Within 2000 ft. of flammable or explosive material; Secured Area

Zone 11, Bldg. 11-041

Pantex Plant

Amarillo Co: Carson TX 79120-

Landholding Agency: Energy

Property Number: 41200220047

Status: Unutilized

Reasons: Within 2000 ft. of flammable or explosive material; Secured Area

Zone 11, Bldg. 11-044

Pantex Plant

Amarillo Co: Carson TX 79120-

Landholding Agency: Energy

Property Number: 41200220048

Status: Unutilized

Reasons: Within 2000 ft. of flammable or explosive material; Secured Area

Zone 12, Bldg. 12-003P

Pantex Plant

Amarillo Co: Carson TX 79120-

Landholding Agency: Energy

Property Number: 41200220049

Status: Unutilized

Reasons: Within 2000 ft. of flammable or explosive material; Secured Area

Zone 12, Bldg. 12-05G1

Pantex Plant

Amarillo Co: Carson TX 79120-

Landholding Agency: Energy

Property Number: 41200220050

Status: Unutilized

Reasons: Within 2000 ft. of flammable or explosive material; Secured Area

Zone 12, 11 Bldgs.

Pantex Plant

Amarillo Co: Carson TX 79120-

Location: 12-010, 12-010V1, 12-010V2, 12-010L, 12-R-010, 12-012, 12-R-012, 12-012V, 12-R-013, 12-R-013RR, 12-13V

Landholding Agency: Energy

Property Number: 41200220051

Status: Unutilized

Reasons: Within 2000 ft. of flammable or explosive material; Secured Area

Zone 12, Bldg. 12-017C

Pantex Plant

Amarillo Co: Carson TX 79120-

Landholding Agency: Energy

Property Number: 41200220052

Status: Unutilized

Reasons: Within 2000 ft. of flammable or explosive material; Secured Area

Zone 12, Bldg. 12-20

Pantex Plant

Amarillo Co: Carson TX 79120-

Landholding Agency: Energy

Property Number: 41200220053

Status: Unutilized

Reasons: Within 2000 ft. of flammable or explosive material; Secured Area

Zone 12, 8 Bldgs.

Pantex Plant

Amarillo Co: Carson TX 79120-

Location: 12-024, 12-024A, 12-02455, 12-025, 12-R-025, 12-030, 12-043, 12-043A

Landholding Agency: Energy

Property Number: 41200220054

Status: Unutilized

Reasons: Within 2000 ft. of flammable or explosive material; Secured Area

Zone 12, Bldg. 12-27

Pantex Plant

Amarillo Co: Carson TX 79120-

Landholding Agency: Energy

Property Number: 41200220055

Status: Unutilized

Reasons: Within 2000 ft. of flammable or explosive material; Secured Area

Zone 12, Bldg. 12-038

Pantex Plant

Amarillo Co: Carson TX 79120-

Landholding Agency: Energy

Property Number: 41200220056

Status: Unutilized

Reasons: Within 2000 ft. of flammable or explosive material; Secured Area

Zone 12, 2 Bldgs.

Pantex Plant

Amarillo Co: Carson TX 79120-

Landholding Agency: Energy

Property Number: 41200220057

Status: Unutilized

Reasons: Within 2000 ft. of flammable or explosive material; Secured Area

Zone 13, 6 Bldgs.

Pantex Plant

Amarillo Co: Carson TX 79120-

Location: 13-041, 13-042, 13-043, 13-044, 13-045, 13-046

Landholding Agency: Energy

Property Number: 41200220058

Status: Unutilized

Reasons: Within 2000 ft. of flammable or explosive material; Secured Area

Virginia

Pier 12

Naval Station

St. Helena Annex

Norfolk Co: VA

Landholding Agency: Navy

Property Number: 77200220035

Status: Excess

Reasons: Extensive deterioration

Bldg. SP-46

Naval Station

Norfolk Co: VA 23511-

Landholding Agency: Navy

Property Number: 77200220036

Status: Excess

Reasons: Extensive deterioration

Bldg. SP-93

Naval Station

Norfolk Co: VA 23511-

Landholding Agency: Navy

Property Number: 77200220037

Status: Excess

Reasons: Extensive deterioration

Bldg. AMF-3

Naval Station

Norfolk Co: VA 23511-

Landholding Agency: Navy

Property Number: 77200220038

Status: Excess

Reasons: Extensive deterioration

Bldg. U-40/Portion

Naval Station

Norfolk Co: VA

Landholding Agency: Navy

Property Number: 77200220040

Status: Excess

Reasons: Extensive deterioration

Bldg. SP-63

Naval Station

Norfolk Co: VA

Landholding Agency: Navy

Property Number: 77200220041

Status: Excess

Reasons: Extensive deterioration

Bldg. SP-63A

Naval Station

Norfolk Co: VA

Landholding Agency: Navy

Property Number: 77200220042

Status: Excess

Reasons: Extensive deterioration

Bldg. A-67

Naval Station

Norfolk Co: VA

Landholding Agency: Navy

Property Number: 77200220043

Status: Excess

Reason: Extensive deterioration

Bldg. U-124

Naval Station

Norfolk Co: VA

Landholding Agency: Navy

Property Number: 77200220044

Status: Excess

Reason: Extensive deterioration

Bldg. CEP-213

Naval Station

Norfolk Co: VA

Landholding Agency: Navy

Property Number: 77200220045

Status: Excess

Reason: Extensive deterioration

Bldg. 51

Naval Weapons Station

Yorktown Co: VA 23691-

Landholding Agency: Navy

Property Number: 77200220054

Status: Excess

Reason: Within 2000 ft. of flammable or explosive material; Secured Area; Extensive deterioration

Bldg. 79

Naval Weapons Station

Yorktown Co: VA 23691-

Landholding Agency: Navy

Property Number: 77200220055

Status: Excess

Reason: Within 2000 ft. of flammable or explosive material; Secured Area

Bldg. 89

Naval Weapons Station

Yorktown Co: VA 23691-

Landholding Agency: Navy

Property Number: 77200220056

Status: Excess

Reason: Within 2000 ft. of flammable or explosive material; Secured Area

5 Bldgs.

Naval Weapons Station

#90, 91, 95, 96, 101

Yorktown Co: VA 23691-

Landholding Agency: Navy

Property Number: 77200220057

Status: Excess

Reason: Within 2000 ft. of flammable or explosive material; Secured Area; Extensive deterioration

Bldg. 119A

Naval Weapons Station

Yorktown Co: VA 23691-

Landholding Agency: Navy

Property Number: 77200220058

Status: Excess

Reason: Within 2000 ft. of flammable or explosive material; Secured Area

Bldg. 378

Naval Weapons Station

Yorktown Co: VA 23691-

Landholding Agency: Navy

Property Number: 77200220059

Status: Excess

Reason: Within 2000 ft. of flammable or explosive material; Secured Area

Bldg. 398

Naval Weapons Station

Yorktown Co: VA 23691-

Landholding Agency: Navy

Property Number: 77200220060

Status: Excess

Reason: Within 2000 ft. of flammable or explosive material; Secured Area; Extensive deterioration

Bldg. 415

Naval Weapons Station

Yorktown Co: VA 23691-

Landholding Agency: Navy

Property Number: 77200220061

Status: Excess

Reason: Within 2000 ft. of flammable or explosive material; Secured Area; Extensive deterioration

Bldgs. 440, 441

Naval Weapons Station

Yorktown Co: VA 23691-

Landholding Agency: Navy

Property Number: 77200220062

Status: Excess

Reason: Within 2000 ft. of flammable or explosive material; Secured Area; Extensive deterioration

Bldg. 508

Naval Weapons Station

Yorktown Co: VA 23691-

Landholding Agency: Navy

Property Number: 77200220063

Status: Excess

Reasons: Within 2000 ft. of flammable or explosive material; Secured Area; Extensive deterioration

Bldg. 510

Naval Weapons Station

Yorktown Co: VA 23691-

Landholding Agency: Navy

Property Number: 77200220064

Status: Excess

Reasons: Within 2000 ft. of flammable or explosive material; Secured Area; Extensive deterioration

Bldg. 605

Naval Weapons Station

Yorktown Co: VA 23691-

Landholding Agency: Navy

Property Number: 77200220065

Status: Excess

Reasons: Within 2000 ft. of flammable or explosive material; Secured Area

Bldg. 624

Naval Weapons Station

Yorktown Co: VA 23691-

Landholding Agency: Navy

Property Number: 77200220066

Status: Excess

Reasons: Within 2000 ft. of flammable or explosive material; Secured Area; Extensive deterioration

Bldg. 688

Naval Weapons Station

Yorktown Co: VA 23691-

Landholding Agency: Navy

Property Number: 77200220067

Status: Excess

Reasons: Within 2000 ft. of flammable or explosive material; Secured Area

Bldgs. 1271, 1272, 1273

Naval Weapons Station

Yorktown Co: VA 23691-

Landholding Agency: Navy

Property Number: 77200220068

Status: Excess

Reasons: Secured Area

Bldgs. 1465, 1466

Naval Weapons Station

Yorktown Co: VA 23691-

Landholding Agency: Navy

Property Number: 77200220069

Status: Excess

Reasons: Within 2000 ft. of flammable or explosive material; Secured Area

Bldgs. 1467, 1468. 1469

Naval Weapons Station

Yorktown Co: VA 23691-

Landholding Agency: Navy

Property Number: 77200220070

Status: Excess

Reasons: Within 2000 ft. of flammable or explosive material; Secured Area

Bldg. 1799

Naval Weapons Station

Yorktown Co: VA 23691-

Landholding Agency: Navy

Property Number: 77200220071

Status: Excess

Reasons: Within 2000 ft. of flammable or explosive material; Secured Area

Land

California

Eniwetok Playgrounds

Marine Corps Logistics Base

Barstow Co: San Bernardino CA 92311-

Landholding Agency: Navy

Property Number: 77200220034

Status: Underutilized

Reasons: Secured Area

[FR Doc. 02-14722 Filed 6-13-02; 8:45 am]

BILLING CODE 4210-29-M